ENVIRONMENTAL PROTECTION AGENCY

[FRL-6560-7]

Brownfields Showcase Communities

AGENCY: Environmental Protection Agency (EPA).

ACTION: Notice; solicitation of statements of interest from communities interested in being designated as Brownfields Showcase Communities.

SUMMARY: Programs within the following Federal agencies are participating in the selection of Brownfields Showcase Communities: Department of Agriculture, Department of Commerce, Department of Defense, Department of Education, Department of Energy, Department of Health and Human Services, Department of Housing and Urban Development, Department of the Interior, Department of Justice, Department of Labor, Department of Transportation, Department of the Treasury, Department of Veterans Affairs, Appalachian Regional Commission, Federal Housing Finance Board, General Services Administration, and Small Business Administration.

DATES: Submit Statements of Interest on or before April 17, 2000. All proposals must be postmarked or sent to EPA via registered or tracked mail by the deadline cited above.

ADDRESSES: Address Statements of Interest to Gayle Rice or Sven-Erik Kaiser, U.S. EPA (5105), 401 M Street, SW, Washington, DC 20460.

FOR FURTHER INFORMATION CONTACT: Gayle Rice, 202-260-8431 or Sven-Erik Kaiser, 202-260-5138. Additional information, if any, will be updated on the Internet Worldwide Web at the Universal Resource Location address of “http://www.epa.gov/brownfields.” Persons lacking Internet access can communicate with the contact persons listed above.

SUPPLEMENTARY INFORMATION:

Background

Brownfields are abandoned, idled or underused industrial and commercial properties where expansion or redevelopment is complicated by real or perceived contamination. The Brownfields Initiative was launched to empower States, communities, Tribes, and other stakeholders in economic redevelopment to work together to prevent, assess, clean up, and sustainably reuse brownfields. Communities have asked for more interaction among all levels of government, the private sector, and non-governmental organizations. In response, Federal agencies have joined together to strengthen and improve their collaborative efforts to clean up and reuse contaminated property.

A partnership of Federal agencies with interests in brownfields redevelopment has been formed to offer special technical, financial and other assistance to selected communities. These communities are called Brownfields Showcases Communities and are models demonstrating the benefits of focused attention on brownfields. To date, the Federal partners have designated 16 Brownfields Showcase Communities. The Federal partners plan to designate ten additional Brownfields Showcase Communities, distributed across the country, varying by size, resources and community background.

Goals

The goals of the Brownfields Showcase Communities project are to:

• Promote environmental protection, restoration to the land, air and water, economic redevelopment, job creation, community revitalization, greenspace development, energy efficiency and public health protection, through the assessment, cleanup, and sustainable reuse of brownfields;

• Link Federal, State, tribal, and local public, private and non-governmental action supporting community efforts to restore and reuse brownfields; and

• Develop national models demonstrating the positive results of public, private and non-governmental collaboration in addressing brownfields challenges.

The Federal partners intend to select a broad array of Showcase Communities that will serve as models for other communities across the nation. The Federal partners seek proposals that link brownfields activities with other community empowerment, sustainable development and community livability efforts. Special consideration will be given to Federal Empowerment Zones and Enterprise Communities (EZ/ECs), communities with populations of under 100,000, Federally recognized Indian tribes and Base Realignment and Closure communities seeking early transfer of property. The Federal partners will also look for opportunities to link brownfields cleanup with related air and water quality efforts.

Benefits

A community will receive the following benefits from being designated as a Brownfields Showcase Community:

• National visibility for a community's brownfields efforts;

• Coordinated delivery of technical and financial support from participating Federal agencies. Participating agencies and programs will vary for each Showcase Community depending upon the particular Showcase's needs and plans. For example, an urban Showcase Community might be served by different programs and resources than a rural community;

• Financial assistance, grants and cooperative agreements from participating agency programs subject to the requirements of those programs and the availability of funds; and

• Staff support in the form of a Federal employee assigned to each Showcase Community to assist with coordination and implementation activities.

Structure of the Statement of Interest

To be considered for selection as a Brownfields Showcase Community, interested communities should submit a Statement of Interest that includes the following information:

• Project title;

• Location: city, county, and state or reservation, tribally-owned lands, etc., of the Showcase area;

• Project contact, organization, phone, fax and e-mail address;

• Name and contact information of the representative of the appropriate governmental subdivision (Mayor, County Executive, Tribal President) if different from the project director;

• Date submitted: the date when the proposal is postmarked or sent to EPA via registered or tracked mail;

• Project Summary: explain how designation as a Brownfields Showcase Community will help the community meet its objectives and the goals of the Brownfields Showcase Community project; and

• Related Designations: identify whether the applicant or the area for the proposed Showcase Community project is designated as a Federal or State Brownfields pilot, Federal or State Empowerment Zone, Enterprise Community, Economic Development Administration designated Economic Development District or other special economic area.

Statements of Interest are limited to two pages. Supplemental materials such as appendices, maps, records, etc., will not be considered during the initial screening phase of the selection process. All communities, or regional groupings of communities, are eligible for consideration as a Brownfields Showcase Community. Previous designation as an EPA brownfields pilot is not a requirement for consideration, nor are such communities precluded from applying. Statements of Interest will be accepted from any party, but must be submitted in partnership with a governmental entity to be eligible for consideration.

Selection Process

Selection of the Brownfields Showcase Communities will be done in two phases. During Phase I, interested communities are invited to submit two-page Statements of Interest which describe how the community's designation as a Showcase Community will advance the goals of the Showcase Communities project as described above. For example:

• A community with well-defined brownfields problems that can be addressed effectively through environmental cleanup and sustainable reuse is more likely to be considered as a candidate community than a community that suspects that there are brownfields problems in their jurisdiction that may require attention.

• A community with an established network of working relationships among Federal, State, and local governments, and other public and private stakeholders is more likely to be considered as a candidate community than a community which is just beginning to create these types of relationships;

• A community that has begun preliminary work such as cleanup and redevelopment planning, securing private investors, and exploring public financial opportunities is more likely to be considered as a candidate community than a community that has just started to address its brownfields issues. Within two years after designation, a Brownfields Showcase Community should be able to demonstrate success in dealing with cleanup and reuse issues.

The Showcase Communities Selection Board, which represents the participating Federal agencies, will evaluate the Statements of Interest. It will screen the applications to create a list of about 25 candidate communities which will then be invited to move into Phase II of the selection process.

During Phase II, the candidate communities will be invited to submit more detailed proposals which more fully describe their brownfields efforts. At that stage, communities will be encouraged to submit supporting materials which demonstrate the breadth of support for their application within the community. The Showcase Communities Selection Board will then evaluate and select the ten Brownfields Showcase Communities, using the detailed criteria listed below.

1. BROWNFIELDS POTENTIAL: Describe the brownfields that exist, or are perceived to exist, in the community. Discuss the potential for environmental restoration and the type of reuse anticipated in the near-term.

2. COMMUNITY NEED: Describe how this is an area with social and economic conditions that would benefit from Federal assistance for brownfields cleanup and redevelopment.

3. LOCAL COMMITMENT: Describe the degree of local commitment to brownfields cleanup and redevelopment including existing community efforts and investment of community resources.

4. FEDERAL, STATE, AND LOCAL PARTNERSHIPS: Describe the Federal, State, and local agencies and organizations participating in the community's brownfields activities, including other programs and funds available for brownfields activities.

5. STRATEGIC PLANNING: Describe the community's brownfields plan and how the brownfields plan is linked to broader strategies of economic redevelopment, job creation, increased environmental protection including improved air and water quality, green development, livability and sustainability.

6. MANAGEMENT CAPABILITY: Describe prior experience or knowledge in managing similar redevelopment, cleanup, and community participation activities. Also describe what specific planning and programmatic requirements have been met for Federal financing programs anticipated for use.

7. ENVIRONMENTAL JUSTICE: Describe the extent to which low-income, minority, and other disadvantaged communities will participate in the development of community brownfields redevelopment activities, including this application and the proposed Showcase Community project.

8. NATIONAL REPLICABILITY: Describe how the community will serve as a model for other similarly situated communities in addressing brownfields redevelopment.

Communities that are invited to submit Phase II proposals should respond directly to these criteria in their proposals. Further application requirements and guidelines will be provided to the candidate communities to assist them in preparing their application. Note that in Phase I (the initial Statement of Interest) of the selection process, interested communities should consider the detailed criteria, but do not have to respond to each criterion.

Dated: March 3, 2000.
Timothy Fields, Jr.,
Assistant Administrator, Office of Solid Waste and Emergency Response.

[FR Doc. 00-6391 Filed 3-15-00; 8:45 am]

BILLING CODE 6560-50-P